DEPARTMENT OF AGRICULTURE

Animal and Plant Health Inspection Service

7 CFR Part 301

[Docket No. APHIS-2009-0036]

Karnal Bunt; Regulated Areas

AGENCY: Animal and Plant Health Inspection Service, USDA.

ACTION: Affirmation of interim rule as final rule.

SUMMARY: We are adopting as a final rule, without change, an interim rule that amended the Karnal bunt regulations to remove certain areas or fields in Riverside County, CA, from the list of regulated areas based on our determination that those areas or fields meet our criteria for release from regulation of Karnal bunt, a fungal disease of wheat. This interim rule relieved restrictions on certain areas or fields that are no longer necessary.

DATES: Effective on December 18, 2009, we are adopting as a final rule the interim rule that was published at 74 FR 26774-26777 on June 4, 2009, and that was corrected in a document that was published at 74 FR 27423 on June 10, 2009.

FOR FURTHER INFORMATION CONTACT: Ms. Lynn Evans-Goldner, Karnal Bunt Program Manager, Plant Pathogen and Weed Programs, EDP, PPQ, APHIS, 4700 River Road Unit 26, Riverdale, MD 20737-1236; (301) 734-7228.

SUPPLEMENTARY INFORMATION:

Background

Karnal bunt is a fungal disease of wheat (Triticum aestivum), durum wheat (Triticum durum), and triticale (Triticum aestivum X Secale cereale), a hybrid of wheat and rye. Karnal bunt is caused by the fungus Tilletia indica (Mitra) Mundkur and is spread primarily through the planting of infected seed followed by very specific environmental conditions matched during specific stages of wheat growth. The U.S. Department of Agriculture’s Animal and Plant Health Inspection Service (APHIS) regulates the movement of articles in the United States that could spread Karnal bunt and works toward eventual eradication of Karnal bunt through bio-sanitary measures.

In an interim rule ¹ effective and published in the Federal Register on June 4, 2009 (74 FR 26774-26777, Docket No. APHIS-2009-0036), we amended the Karnal bunt regulations contained in 7 CFR 301.89-1 through 301.89-16 by removing certain areas or fields in Riverside County, CA, from the list of regulated areas in § 301.89-3(g). That action was based on our determination that these fields or areas are eligible for release from regulation under the criteria in § 301.89-3(f). The interim rule relieved restrictions on fields within those areas that were no longer necessary. As a result of the interim rule, 286 fields and 8,226 acres were removed from the list of regulated areas in Riverside County, CA; 35,271 acres in Riverside County remain regulated for Karnal bunt.

¹ To view the interim rule, a correction to the interim rule, and the comment we received, go to (http://www.regulations.gov/fdmspublic/component/main?main=DocketDetail&d=APHIS-2009-0036).

Comments on the interim rule were required to be received on or before August 3, 2009. We received one comment by that date, from a wheat industry organization. The commenter supported the interim rule. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule amending 7 CFR part 301 that was published at 74 FR 26774-26777 on June 4, 2009, and that was corrected in a document that was published at 74 FR 27423 on June 10, 2009.

Done in Washington, DC, this 11th day of December 2009.

Kevin Shea,
Acting Administrator, Animal and Plant Health Inspection Service.

[FR Doc. E9-30130 Filed 12-17-09: 8:45 am]

BILLING CODE: 3410-34-S